NUCLEAR REGULATORY COMMISSION

[Docket No. 50-264; NRC-2012-0026]

Dow Chemical Company, Dow TRIGA Research Reactor

AGENCY: Nuclear Regulatory Commission.

ACTION: License renewal; notice of issuance.

SUMMARY: The U.S. Nuclear Regulatory Commission (NRC) has issued Renewed Facility Operating License No. R-108, held by the Dow Chemical Company. The renewed license would authorize the Dow Chemical Company to operate the Dow TRIGA (Training, Research, Isotope Production, General Atomics) Research Reactor (DTRR), for 20 years from its date of issuance.

DATES: The issuance date of Renewed Facility Operating License No. R-108 is June 18, 2014.

ADDRESSES: Please refer to Docket ID NRC-2012-0026 when contacting the NRC about the availability of information regarding this document. You may obtain publicly-available information related to this document using any of the following methods:

• Federal Rulemaking Web site: Go to http://www.regulations.gov and search for Docket ID NRC-2012-0026. Address questions about NRC dockets to Carol Gallagher; telephone: 301-287-3422; email: Carol.Gallagher@nrc.gov. For technical questions, contact the individuals listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. For the convenience of the reader, the ADAMS Accession Numbers for the application for renewal are provided in a table in the “Availability of Documents” section of this document.

• NRC's PDR: You may examine and purchase copies of public documents at the NRC's PDR, Room O1-F21, One White Flint North, 11555 Rockville Pike, Rockville, Maryland 20852.

Availability of Documents

License renewal application and supplemental documents:

April 1, 2009 | ML092150443
September 24, 2010 | ML102720859
January 12, 2011 | ML110130501
February 11, 2011 | ML110490391
April 20, 2011 | ML113460120
May 12, 2011 | ML11136A229
May 27, 2011 | ML112150327
August 12, 2011 | ML11228A116
August 31, 2011 | ML11249A043
October 12, 2011 | ML112930035
November 10, 2011 | ML113410168
December 6, 2011 | ML113460038
January 13, 2012 | ML12019A007
January 20, 2012 | ML12026A152 (attachment 1) ML12025A089 (attachment 2)
February 7, 2012 | ML12040A128
June 11, 2012 | ML12164A784
August 10, 2012 | ML12226A401
July 11, 2013 | ML13196A299
September 16, 2013 | ML13261A026
April 9, 2014 | ML14100A349

Licensee's annual reports for years ending:

2005 | ML061010776
2006 | ML070920302
2007 | ML080790521
2008 | ML090720161
2009 | ML100490399
2010 | ML110680094
2011 | ML12066A128
2012 | ML13059A459
2013 | ML14070A179

FOR FURTHER INFORMATION CONTACT: Geoffrey Wertz, Office of Nuclear Reactor Regulation, U.S. Nuclear Regulatory Commission, Washington, DC 20555-0001; telephone: 301-415-0893; email: Geoffrey.Wertz@nrc.gov.

SUPPLEMENTARY INFORMATION: The NRC has issued Renewed Facility Operating License No. R-108, held by the Dow Chemical Company, which authorizes continued operation of the Dow TRIGA (Training, Research, Isotope Production, General Atomics) Research Reactor (DTRR), located in Midland, Michigan. The DTRR is a pool-type, natural convection, light-water cooled, and shielded reactor. The DTRR is licensed to operate at a steady-state thermal power level of 300 kilowatts. The Renewed Facility Operating License No. R-108 will expire 20 years from its date of issuance.

The renewed facility operating license complies with the standards and requirements of the Atomic Energy Act of 1954, as amended (the Act), and the Commission's rules and regulations. The Commission has made appropriate findings as required by the Act and the Commission's regulations in Title 10, Chapter 1, of the Code of Federal Regulations, and sets forth those findings in the renewed facility operating license. The agency afforded an opportunity for hearing in the Notice of Opportunity for Hearing published in the Federal Register on February 13, 2012 (77 FR 7613-7618). The NRC received no request for a hearing or petition for leave to intervene following the notice.

The NRC staff prepared a safety evaluation report for the renewal of Facility Operating License No. R-108 and concluded, based on that evaluation, the licensee can continue to operate the facility without endangering the health and safety of the public. The NRC staff also prepared an Environmental Assessment and Finding of No Significant Impact for the renewal of the facility operating license, noticed in the Federal Register on July 20, 2012 (77 FR 42771-42774), as supplemented on May 8, 2013 (78 FR 26811-26812), and concluded that renewal of the facility operating license will not have a significant impact on the quality of the human environment.

Dated at Rockville, Maryland, this 19 day of June 2014.
For the Nuclear Regulatory Commission.
Linh N. Tran,
Acting Chief, Research and Test Reactors Licensing Branch, Division of Policy and Rulemaking, Office of Nuclear Reactor Regulation.

[FR Doc. 2014-15009 Filed 6-25-14; 8:45 am]

BILLING CODE 7590-01-P